SECURITIES AND EXCHANGE COMMISSION

[ File No. 500-1]

In the Matter of Heritage Worldwide, Inc., Impala Mineral Exploration Corp., Klondike Star Mineral Corporation, MIV Therapeutics Inc., Most Home Corp., Moventis Capital, Inc., and OrganiTECH USA, Inc.; Order of Suspension of Trading

October 31, 2013.

It appears to the Securities and Exchange Commission that there is a lack of current and accurate information concerning the securities of Heritage Worldwide, Inc. because it has not filed any periodic reports since the period ended December 31, 2008.

It appears to the Securities and Exchange Commission that there is a lack of current and accurate information concerning the securities of Impala Mineral Exploration Corp. because it has not filed any periodic reports since the period ended March 31, 2009.

It appears to the Securities and Exchange Commission that there is a lack of current and accurate information concerning the securities of Klondike Star Mineral Corporation because it has not filed any periodic reports since the period ended May 31, 2008.

It appears to the Securities and Exchange Commission that there is a lack of current and accurate information concerning the securities of MIV Therapeutics Inc. because it has not filed any periodic reports since the period ended November 30, 2008.

It appears to the Securities and Exchange Commission that there is a lack of current and accurate information concerning the securities of Most Home Corp. because it has not filed any periodic reports since the period ended April 30, 2008.

It appears to the Securities and Exchange Commission that there is a lack of current and accurate information concerning the securities of Moventis Capital, Inc. because it has not filed any periodic reports since the period ended March 31, 2007.

It appears to the Securities and Exchange Commission that there is a lack of current and accurate information concerning the securities of OrganiTECH USA, Inc. because it has not filed any periodic reports since the period ended September 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on October 31, 2013, through 11:59 p.m. EST on November 13, 2013.

By the Commission.
Jill M. Peterson,
Assistant Secretary.

[FR Doc. 2013-26446 Filed 10-31-13; 4:15 pm]

BILLING CODE 8011-01-P